DEPARTMENT OF HEALTH AND HUMAN SERVICES

Centers for Disease Control and Prevention

[60Day-05AZ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Library Of Participant Questions To Be Used In Exposure Investigation Questionnaires—New—The Agency for Toxic Substances and Disease Registry (ATSDR).

ATSDR is mandated pursuant to the 1980 Comprehensive Environmental Response, Compensation, and Liability Act (CERCLA) and its 1986 Amendments, the Superfund Amendments and Reauthorization Act (SARA) to prevent or mitigate adverse human health effects and diminished quality of life resulting from the exposure to hazardous substances in the environment. Exposure Investigations are an approach developed by ATSDR that employs targeted biologic and environmental sampling to assist ATSDR to better characterize past, current, and possible future human exposures to hazardous substances in the environment. The purpose of Exposure Investigations is to determine in a timely manner whether community residents are being exposed to chemical contaminants at levels that might affect their health. Exposure Investigations are usually requested by officials of a state health agency, county health departments, the Environmental Protection Agency, the general public, and ATSDR staff.

During an Exposure Investigation ATSDR conducts biomarker testing or environmental testing or both. Biomarkers may be sampled in urine, blood, or hair. Environmental samples (e.g., air, water, soil, or food) can be taken from the environment where people live, spend leisure time, or other places they might come into contact with contaminants under investigation. In addition to the suspected environmental exposure source being investigated, additional exposure to the contaminant may come from other sources encountered in daily activities such as jobs, hobbies, household products, lifestyle, medicines, and foods.

To assist in interpreting the sampling results, a survey questionnaire appropriate to the specific contaminant will be administered to participants. Only a limited number of questions pertinent to exposure routes of the contaminant of concern will be administered in an investigation. Questions will be asked about the presence or absence of a specific exposure and an estimate of its extent and duration. Exposure to other sources of the contaminant of concern will also be queried in the survey. The information gathered in the survey will allow ATSDR to more accurately interpret its testing results and determine a likely source of elevated biomarker tests.

Questionnaires will generally be administered face-to-face and occasionally by phone or mail. Typically, ATSDR conducts between 10-15 exposure investigations nationally each year that would require a questionnaire. The number of participants per investigation ranges from 10 to less than 50.

ATSDR is seeking approval for a set of 40-43 potential questions. Of these, approximately 12-15 questions about the pertinent environmental pathways in an Exposure Investigation will be used. This number can vary depending on the number of contaminants being investigated, the route of exposure (breathing, eating, touching), and a number of other sources (e.g., products, jobs) of the chemical(s). We will also collect general information (e.g., name, address,) necessary to conduct the investigation; there are approximately 28 questions that will collect demographic information. There are no costs to respondents other than their time.

Topic areas for the complete set of questions include the following:

(1) Media specific which includes: air (indoor/outdoor); water (water source and plumbing); soil, and food (gardening, fish, game, domestic animals).

(2) Other sources such as: occupation; hobbies; household uses or house construction; lifestyle (e.g., smoking); medicines and/or health conditions, and foods.

Respondents | Number of respondents | Number of responses per respondent | Average burden per response (in hours) | Total burden (in hours)
Exposure Investigation Participants | 750 | 1 | 30/60 | 375
Total |  |  |  | 375

Dated: January 25, 2005.
Betsey Dunaway,
Acting Reports Clearance Officer, Office of the Chief Science Officer, Centers for Disease Control and Prevention.

[FR Doc. 05-1713 Filed 1-28-05; 8:45 am]

BILLING CODE 4163-18-P